DEPARTMENT OF TRANSPORTATION

Federal Aviation Administration

14 CFR Part 71

[Docket No. FAA-2022-0525; Airspace Docket No. 22-ASO-7]

RIN 2120-AA66

Amendment of Class E Airspace; Raleigh, NC

AGENCY: Federal Aviation Administration (FAA), DOT.

ACTION: Final rule.

SUMMARY: This action amends Class E airspace extending upward from 700 feet above the surface at Raleigh-Durham International Airport, Raleigh, NC, due to the decommissioning of the Leevy non-directional beacon (NDB) and cancellation of associated approaches. In addition, Class E airspace designated as an extension to a Class C surface area is amended by updating the airport geographic coordinates and updating the name of the Raleigh/Durham VORTAC. Also, Horace Williams Airport has been abandoned, and is no longer in need of controlled airspace. Controlled airspace is necessary for the safety and management of instrument flight rules (IFR) operations in the area.

DATES: Effective 0901 UTC, November 3, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at www.faa.gov/air_traffic/publications/. For further information, you can contact the Airspace Policy Group, Federal Aviation Administration, 800 Independence Avenue SW, Washington, DC 20591; Telephone: (202) 267-8783.

FOR FURTHER INFORMATION CONTACT: John Fornito, Operations Support Group, Eastern Service Center, Federal Aviation Administration, 1701 Columbia Avenue, College Park, GA 30337; Telephone: (404) 305-6364.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class E airspace for Raleigh-Durham International Airport, Raleigh, NC, to support IFR operations in the area.

History

The FAA published a notice of proposed rulemaking in the Federal Register (87 FR 29238, May 13, 2022) for Docket No. FAA-2022-0525 to amend Class E airspace for Raleigh-Durham International Airport, Raleigh, NC.

Interested parties were invited to participate in this rulemaking effort by submitting written comments on the proposal to the FAA. One comment was received advising the FAA that a group is researching the possible reopening of the now closed Horace Williams Airport. The FAA will remove the Class E airspace surrounding this airport, and establish modified airspace when/if the airport does reopen.

Class E airspace designations are published in Paragraphs 6003 and 6005, respectively, of FAA Order JO 7400.11F, dated August 10, 2021, and effective September 15, 2021, which is incorporated by reference in 14 CFR 71.1. The Class E airspace designations listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic routes, and reporting points.

The Rule

The FAA is amending 14 CFR part 71 by amending Class E airspace extending upward from 700 feet above the surface at Raleigh-Durham International Airport, Raleigh, NC, due to the decommissioning of the Leevy NDB and cancellation of associated approaches. This action eliminates the northeast extension. Also, Class E airspace designated as an extension to a Class C surface area is amended by updating the airport's geographic coordinates and updating the name of the Raleigh/Durham VORTAC, (formerly Raleigh VORTAC). This action also removes the airspace surrounding Horace Williams Airport, as the airport has closed.

Class E airspace designations are published in Paragraphs 6003 and 6005, respectively, of FAA Order JO 7400.11F, dated August 10, 2021, and effective September 15, 2021, which is incorporated by reference in 14 CFR 71.1. The Class E airspace designations listed in this document will be published subsequently in FAA Order JO 7400.11.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a.

This airspace action is not expected to cause any potentially significant environmental impacts, and no extraordinary circumstances exist that warrant preparation of an environmental assessment.

Lists of Subjects in 14 CFR Part 71

Airspace, Incorporation by reference, Navigation (air)

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389

§ 71.1 [Amended]

2. The incorporation by reference in 14 CFR 71.1 of FAA Order 7400.11F, Airspace Designations and Reporting Points, dated August 10, 2021, and effective September 15, 2021, is amended as follows:

Paragraph 6003 Class E Airspace Designated as an Extension to Class C Area.

* * * * *

ASO NC E3 Raleigh, NC [Amended]

Raleigh-Durham International Airport, NC

(Lat. 35°52′40″ N, long. 78°47′15″ W)

Raleigh/Durham VORTAC

(Lat. 35°52′21″ N, long. 78°47′00″ W)

That airspace extending upward from the surface within 3 miles each side of the Raleigh/Durham VORTAC 036°, 128° and 231° radials extending from a 5-mile radius of the Raleigh-Durham International Airport to 7 miles northeast, southeast and southwest of the VORTAC.

Paragraph 6005 Class E Airspace Areas Extending Upward From 700 Feet or More Above the Surface of the Earth.

* * * * *

ASO NC E5 Raleigh, NC [Amended]

Raleigh-Durham International Airport, NC

(Lat. 35°52′40″ N, long. 78°47′15″ W)

Duke Medical Center, Point In Space Coordinates

(Lat. 35°59′48″ N, long. 78°55′49″ W)

That airspace extending upward from 700 feet or more above the surface within a 10-mile radius of Raleigh-Durham International Airport; and that airspace within a 6-mile radius of the point in space (lat. 35°59′48″ N, long. 78°55′49″ W) serving Duke Medical Center.

Issued in College Park, Georgia, on August 15, 2022.
Andreese C. Davis,
Manager, Airspace & Procedures Team South, Eastern Service Center, Air Traffic Organization.

[FR Doc. 2022-18015 Filed 8-19-22; 8:45 am]

BILLING CODE 4910-13-P